DEPARTMENT OF TRANSPORTATION

Coast Guard

33 CFR Part 117

[CGD01-99-070]

RIN 2115-AE47

Drawbridge Operation Regulations; Westchester Creek, Bronx River, and Hutchinson River, NY

AGENCY: Coast Guard, DOT.

ACTION: Notice of proposed rulemaking.

SUMMARY: The Coast Guard proposes to change the operating rules for three New York City bridges; the Bruckner Boulevard/Unionport Bridge, at mile 1.7, across Westchester Creek at the Bronx, the Bruckner Boulevard/Eastern Boulevard Bridge, mile 1.1, across the Bronx River at the Bronx, and the Hutchinson River Parkway Bridge, mile 0.9, across the Hutchinson River, at the Bronx, all in New York. The bridge owner asked the Coast Guard to change the regulations to require a two-hour advance notice for openings. This action is expected to relieve the owner of the bridge from the requirement to crew each bridge at all times by using a roving crew of drawtenders and still meet the reasonable needs of Navigation.

DATES: Comments must reach the Coast Guard on or before June 26, 2000.

ADDRESSES: You may mail comments to Commander (obr), First Coast Guard District, Bridge Branch, at 408 Atlantic Avenue, Boston, MA. 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except, Federal holidays.

FOR FURTHER INFORMATION CONTACT: Mr. John McDonald, Project Officer, First Coast Guard District, (617) 223-8364.

SUPPLEMENTARY INFORMATION:

Request for Comments

We encourage you to participate in this rulemaking by submitting comments or related material. If you do so, please include your name and address, identify the docket number for this rulemaking (CGD01-99-070), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

Bruckner Boulevard/Eastern Boulevard Bridge

The Bruckner Boulevard/Eastern Boulevard Bridge, mile 1.1, across the Bronx River at the Bronx, has a vertical clearance of 27 feet at mean high water and 34 feet at mean low water. The existing operating regulations for the Bruckner Boulevard/Eastern Boulevard Bridge in 33 CFR 117.771(a) require the bridge to open on signal if at least a four-hour advance notice is given to the NYCDOT Radio Hotline, or NYCDOT Bridge Operations Office. From 7 a.m. to 9 a.m. and 4 p.m. to 6 p.m., Monday through Friday, the bridge need not open for vessel traffic.

Hutchinson River Parkway Bridge

The Hutchinson River Parkway Bridge, mile 0.9, across the Hutchinson River at the Bronx, has a vertical clearance of 30 feet at mean high water and 38 feet at mean low water. The existing operating regulations for the Hutchinson River Parkway Bridge in 33 CFR 117.793(b) require the bridge to open on signal if at least a six-hour advance notice is given.

Bruckner Boulevard/Unionport Bridge

The Bruckner Boulevard/Unionport Bridge, at mile 1.7, across Westchester Creek at the Bronx, has a vertical clearance of 14 feet at mean high water and 21 feet at mean low water. The existing operating regulations for the Bruckner Boulevard Bridge in 33 CFR 117.815 require the bridge to open on signal; except that, from 7 a.m. to 9 a.m. and 4 p.m. to 6 p.m., Monday through Friday, the draw need not open for vessel traffic.

The owner of the bridges, the New York City Department of Transportation (NYCDOT), submitted bridge opening log data to the Coast Guard for review. The bridge owner plans to operate all three bridges with multiple crews of drawtenders after a two-hour advance notice is given. The two-hour advance notice for all three bridges will make the advance notice requirement consistent for each bridge allowing sufficient time for the roving crews of drawtenders to operate all three bridges. The closed periods 7 a.m. to 9 a.m. and 4 p.m. to 6 p.m., Monday through Friday, for Bruckner Boulevard/Unionport Bridge and Bruckner Boulevard/Eastern Boulevard Bridge will not be changed by this rule. The number of bridge openings at the three bridges are as follows:

| 1998 | 1999
Bruckner/Unionport | 429 | 516
Bruckner/Eastern | 0 | 0
Hutchinson Parkway | 75 | 129

The Coast Guard believes that the owner's proposal to use multiple crews of roving drawtenders to operate these bridges will meet the needs of navigation. The bridge owner will provide additional crews of drawtenders in the event the number of bridge opening requests increases.

The Coast Guard believes that the two-hour advance notice is reasonable because the bridges will still open on signal, except during the closed periods at Bruckner Boulevard/Unionport Bridge and Bruckner Boulevard/Eastern Boulevard Bridge, provided the two-hour notice is given. The commercial vessel transits on the Bronx River, Hutchinson River, Eastchester Creek and Westchester Creek are scheduled in advance. Providing a two-hour notice for bridge openings should not prevent vessels from transiting the waterway in a timely manner.

The advance notice time will be reduced at the Bruckner Boulevard/Eastern Boulevard and the Hutchinson River Parkway bridges from four-hour and six-hour advance notice, respectively to two-hours advance notice for both bridges.

Discussion of Proposal

The Coast Guard proposed to revise the operating regulations for the Bronx River, Hutchinson River (Eastchester Creek) and Westchester Creek as follows:

Bruckner Boulevard/Eastern Boulevard Bridge

Revise the operating regulations at 33 CFR 117.771(a) for the Bruckner Boulevard/Eastern Boulevard Bridge, mile 1.1, across the Bronx River, to require that the draw shall open on signal if at least a two-hour advance notice is given. The requirement that the draw need not open for vessel traffic, 7 a.m. to 9 a.m. and 4 p.m. to 6 p.m., Monday through Friday, will remain unchanged by this action.

Hutchinson River Parkway Bridge

Revise the operating regulations at 33 CFR 117.793(b) for the Hutchinson Parkway Bridge, mile 0.9, across the Hutchinson River, to require that the draw shall open on signal if at least a two-hour advance notice is given.

Bruckner Boulevard/Unionport Bridge

Revise the operating regulations at 33 CFR 117.815 for the Bruckner Boulevard/Unionport Bridge, mile 1.7, across Westchester Creek, to add the requirement that the draw open on signal if at least a two-hour advance notice be given. The requirement that the draw need not open for vessel traffic, 7 a.m. to 9 a.m. and 4 p.m. to 6 p.m., Monday through Friday, will remain unchanged by this action.

Requests for bridge openings may be given to the New York City Department of Transportation (NYCDOT) Radio Hotline or NYCDOT Bridge Operations Office.

This consistent two-hour advance notice requirement will allow the bridge owner to utilize multiple crews of drawtenders to open the bridges and still meet the reasonable needs of navigation.

The Coast Guard believes this roving crew concept will be successful because commercial vessel transits are scheduled in advance. Providing a two-hour notice for bridge openings should not prevent vessels from transiting the waterway in a timely manner.

Regulatory Evaluation

This proposed rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that the bridges will still open for marine traffic provided a two-hour notice is given. Commercial transits are scheduled in advance. Providing a two-hour advance notice should not prevent vessels from transiting in a timely manner.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that the bridges will still open for all vessel traffic after a two-hour advance notice is given. Commercial vessel transits are scheduled in advance. Providing a two-hour notice for bridge openings should not prevent vessels from transiting the waterway in a timely manner.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation because promulgation of drawbridge regulations have been found not to have a significant effect on the environment. A “Categorical Exclusion Determination” is available in the docket where indicated under ADDRESSES.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.771(a) is revised to read as follows:

§ 117.771 Bronx River.

(a) The draw of the Bruckner Boulevard Bridge, mile 1.1, at the Bronx, New York, shall open on signal if at least a two-hour advance notice is given to the New York City Department of Transportation (NYCDOT) Radio Hotline, or the NYCDOT Bridge Operations Office. From 7 a.m. to 9 a.m. and 4 p.m. to 6 p.m., Monday through Friday, the bridge need not be opened for the passage of vessels.

* * * * *

3. Section 117.793(b) is revised to read as follows:

§ 117.793 Hutchinson River (Eastchester Creek).

* * * * *

(b) The draw of the Hutchinson River Parkway Bridge, mile 0.9, at the Bronx, New York shall open on signal if at least a two-hour notice is given to the New York City Department of Transportation (NYCDOT) Radio Hotline, or the NYCDOT Bridge Operations Office.

* * * * *

4. Section 117.815 is revised to read as follows:

§ 117.815 Westchester Creek.

The draw of the Bruckner Boulevard/Unionport Bridge, mile 1.7, at the Bronx, New York, shall open on signal if at least a two-hour advance notice is given to the New York City Department of Transportation (NYCDOT) radio hotline, or the NYCDOT Bridge Operations Office. The draw need not be opened for vessel traffic from 7 a.m. to 9 a.m. and 4 p.m. to 6 p.m., Monday through Friday. The owner of the bridge shall provide clearance gauges according to the provisions of § 118.160 of this chapter.

Dated: April 12, 2000.
Robert F. Duncan,
Captain, U.S. Coast Guard, Acting Commander, First Coast Guard District.

[FR Doc. 00-10266 Filed 4-24-00; 8:45 am]

BILLING CODE 4910-15-U